DEPARTMENT OF THE INTERIOR

National Park Service

[NPS-WASO-NAGPRA-NPS0038099; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the PMAE has completed an inventory of human remains and associated funerary objects and has determined that there is a cultural affiliation between the human remains and associated funerary objects and Indian Tribes or Native Hawaiian organizations in this notice.

DATES: Repatriation of the human remains and associated funerary objects in this notice may occur on or after July 17, 2024.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Based on the information available, human remains representing, at least, one individual have been reasonably identified. The one lot of associated funerary objects is one lot of faunal remains. In 1906, Mark Raymond Harrington and Irwin Hayden removed these human remains and associated funerary objects from the St. Lawrence site in Jefferson County, NY, as part of a Peabody Museum Expedition.

Based on the information available, one lot of associated funerary objects has been identified. The one lot of associated funerary objects is one lot of faunal remains. These associated funerary objects were removed from the Perch River Bay site in Jefferson County, NY, by Mark Raymond Harrington and Irwin Hayden in 1906 as part of a Peabody Museum Expedition. The human remains associated with these associated funerary objects were listed in a Notice of Inventory Completion published in the Federal Register on October 5, 2001 (66 FR 51062-51064) and a correction Notice of Inventory Completion published in the Federal Register on March 14, 2003 (68 FR 12376-12377).

Based on the information available, one lot of associated funerary objects has been identified. The one lot of associated funerary objects is one lot of ceramic vessels and sherds, ceramic pipe fragments, ceramic effigy pipe fragments, ceramic discs, bone tools, faunal remains, botanical remains, shell beads, stone beads, lithics, flakes, charcoal, charred wood, ground stone tools, net sinkers, worked stones, unworked stones, shell, worked faunal remains, brass buttons, an iron spring, iron nails, glass, and soil. These associated funerary objects were removed from the Durfee Farm site in Jefferson County, NY, by Mark Raymond Harrington and Irwin Hayden in 1906 as part of a Peabody Museum Expedition. The human remains associated with these associated funerary objects were listed in a Notice of Inventory Completion published in the Federal Register on October 5, 2001 (66 FR 51062-51064) and a correction Notice of Inventory Completion published in the Federal Register on March 14, 2003 (68 FR 12376-12377).

Cultural Affiliation

Based on the information available and the results of consultation, cultural affiliation is clearly identified by the information available about the human remains and associated funerary objects described in this notice.

Determinations

The PMAE has determined that:

• The human remains described in this notice represent the physical remains of one individual of Native American ancestry.

• The three lots of objects described in this notice are reasonably believed to have been placed intentionally with or near individual human remains at the time of death or later as part of the death rite or ceremony.

• There is a reasonable connection between the human remains and associated funerary objects described in this notice and the Oneida Indian Nation; Oneida Nation; and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 17, 2024. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: June 7, 2024.
Melanie O'Brien,
Manager, National NAGPRA Program.

[FR Doc. 2024-13244 Filed 6-14-24; 8:45 am]

BILLING CODE 4312-52-P